DEPARTMENT OF TRANSPORTATION

Federal Transit Administration

Intent To Prepare an Environmental Impact Statement for a Potomac Yard Metrorail Station in Alexandria, VA

AGENCY: Federal Transit Administration (FTA), DOT.

ACTION: Notice of intent to prepare an Environmental Impact Statement.

SUMMARY: The Federal Transit Administration (FTA) as the Federal lead agency, in cooperation with the City of Alexandria, the Washington Metropolitan Area Transit Authority (WMATA), and the National Park Service (NPS), is issuing this Notice of Intent (NOI) to advise the public that it proposes to prepare an Environmental Impact Statement (EIS) to assess the potential environmental impacts associated with the proposed construction and operation of the Potomac Yard Metrorail Station. The proposed project, described more completely within, would consist of the construction of a Metrorail infill station along the existing combined Blue and Yellow Lines between the Ronald Reagan Washington National Airport Station and the Braddock Road Station. The purpose of this notice is to alert interested parties regarding the intent to prepare the EIS, to provide information on the nature of the proposed project and possible alternatives, and to invite public participation in the EIS process.

DATES: Comments on the scope of the EIS, including the project's purpose and need, the alternatives to be considered, the impacts to be evaluated, and the methodologies to be used in the evaluations should be sent before March 15, 2011. See ADDRESSES below for the address to which written comments may be sent. Scoping meetings to accept comments on the scope of the EIS will be held on the following date:

• Agency Scoping Meeting: Thursday, February 10, 2011, Cora Kelly Recreation Center, 25 West Reed Avenue, Alexandria, VA at 3 p.m. Representatives from Federal, State, regional, Tribal, and local agencies that may have an interest in any aspect of the project will be invited to serve as either participating or cooperating agencies.

• Public Scoping Meetings: Thursday, February 10, 2011, Cora Kelly Recreation Center, 25 West Reed Avenue, Alexandria, VA at 4:30 p.m. and 6:30 p.m.

The buildings used for the scoping meetings are accessible to persons with disabilities. Spanish language materials and interpreters will be provided at the scoping meetings. Anyone who requires special assistance at a scoping meeting should contact Jim Ashe at WMATA at (202) 962-1745 or jashe@wmata.com at least 3 days prior to the meeting. A scoping packet is available on the project Web site at http://www.potomacyardmetro.com or by contacting Jim Ashe at the telephone number or e-mail address above. Copies will also be available at the scoping meetings.

If the City of Alexandria public schools are closed due to inclement weather on February 10, 2011, the public and agency scoping meetings will be held at the same times on the snow date of February 15, 2011.

ADDRESSES: Comments will be accepted at the public scoping meetings or they may be sent on or before March 15, 2011 by e-mail to comments@potomacyardmetro.com or by regular mail to Potomac Yard Metrorail Station EIS, P.O. Box 25132, Alexandria, VA 22313.

FOR FURTHER INFORMATION CONTACT: Melissa Barlow, Community Planner, Federal Transit Administration, DC Metro Office, 1990 K Street, NW., Suite 510, Washington, DC 20006, Melissa.barlow@dot.gov or (202) 219-3565; or Jim Ashe, Manager, Environmental Planning and Compliance Washington Metropolitan Area Transit Authority, 600 5th Street, NW., Washington, DC 20001, jashe@wmata.com or (202) 962-1745.

SUPPLEMENTARY INFORMATION:

Scoping

FTA invites all interested individuals, organizations, public agencies, and Native American Tribes to comment on the scope of the EIS, including the project's purpose and need, the alternatives to be studied, the impacts to be evaluated, and the evaluation methods to be used. Comments should address (1) feasible alternatives that may better achieve the project's purpose and need with fewer adverse impacts, and (2) any significant environmental impacts relating to the alternatives.

NEPA “scoping” (Title 40 of the Code of Federal Regulations (CFR) § 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence consistent with the ultimate objectives of the NEPA implementing regulations—“to make the environmental impact statement process more useful to decision makers and the public; and to reduce paperwork and the accumulation of extraneous background data, in order to emphasize the need to focus on real environmental issues and alternatives… [by requiring] impact statements to be concise, clear, and to the point, and supported by evidence that agencies have made the necessary environmental analyses.” Executive Order 11991, of May 24, 1977. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) documenting the results of the scoping process; (2) contributing to the transparency of the process; and (3) providing a clear roadmap for concise development of the environmental document.

Purpose and Need for the Project

The purpose of the project is to improve accessibility of the Potomac Yard area and provide more transportation choices for current and future residents, employees, and businesses by establishing a new access point to the regional Metrorail system. This additional access point is needed to address existing and future travel demand in the area resulting from the City of Alexandria's planned development of a major transit-oriented mixed-use activity center in the vicinity of the proposed station.

The project area in Alexandria is located in the Northern Virginia portion of the Washington metropolitan region, which is expected to see approximately 30% population growth in the next 30 years. The project area is located adjacent to existing residential neighborhoods to the west and southeast and an approximately 600,000 square-foot retail center. The existing retail center is approved for redevelopment of 2.25 million square feet of mixed-use development including office, retail, residential and hotel uses. Other properties in the Potomac Yard redevelopment area are approved for a total of approximately 4 million square feet of development. This additional development will impact the existing roadway network with increased travel demand adding additional vehicle and transit trips. The transportation network in the project area is limited by the heavy rail to the east and limited east-west connectivity west of Route 1.

Currently the project area is not served by Metrorail or any other rapid transit services which provide regional connectivity. The project area is located between two Metrorail stations located 3.1-miles apart. This gap between the Ronald Reagan Washington National Airport Station and the Braddock Road Station is the longest for the portions of the Metrorail system that serve urban residential and commercial corridors. This area is currently served by local bus services that operate in mixed traffic along the congested US Route 1 corridor, yet they have numerous local stops resulting in slow transit travel speeds. This results in relatively long transit travel times to access the area. The Crystal City-Potomac Yard Transitway, which will provide bus priority lanes on nearby Route 1, will improve reliability of local transit services along the Route 1 corridor however, access to the Metrorail system is still needed to accommodate longer regional transit trips.

The anticipated Potomac Yard Metrorail Station was included in WMATA's 1999 Transit Service Expansion Plan, the 2010 Financially Constrained Long-Range Transportation Plan for the National Capital Region, and earlier WMATA and regional transportation plans, in addition to the City of Alexandria's 1992 and 2008 Transportation Master Plans and North Potomac Yard Small Area Plan. Establishing a new access point to the regional Metrorail system would provide more transit-friendly development patterns supported by improved access to transit as well as a safe and reliable alternative to automobile travel to and from the Potomac Yard area. Improved access to the regional system is also needed to accommodate a greater share of travel to and from the area on transit, potentially reducing reliance on single-occupant vehicle use, decreasing automobile emissions, and improving regional air quality. The Washington Metropolitan area has been identified as a non-attainment area for ozone and particulate matter since the concentrations of these pollutants exceed acceptable levels as designated by the EPA.

Possible Alternatives

The alternatives expected to be addressed in the EIS include:

No Action Alternative: The No Action Alternative represents future conditions in the EIS analysis year of 2035 without the Potomac Yard Metrorail Station Project. The No Action Alternative includes the existing transit and transportation system in the Washington, DC region plus planned improvements for which the need, commitment, financing, and public and political support have been identified, and which may reasonably be expected to be implemented. This alternative is included in the Draft EIS as a means of comparing and evaluating the impacts and benefits of the Potomac Yard Metrorail Station alternatives.

Build Alternatives: Proposed build alternatives are being evaluated for the project. Potomac Yard is located in the City of Alexandria and the southern edge of Arlington, VA. The area is roughly bound by U.S. Route 1 (Jefferson Davis Highway) to the west, the George Washington Memorial Parkway on the east, Four Mile Run to the north, and E. Howell Avenue on the south.

The study corridor where the project would be located is approximately 1.5 miles in length. Build alternatives will be analyzed that are either along or just to the west of the existing WMATA right-of-way for the Blue and Yellow lines in this area. Build alternatives include:

• Metrorail Station Alternative A: Station Alternative A would be located along the existing mainline tracks between the George Washington Memorial Parkway and the CSX Railroad tracks and adjacent to the Potomac Greens Neighborhood.

• Metrorail Station Alternative B1: Station Alternative B1 would be located along the existing mainline tracks between the George Washington Memorial Parkway and the CSX Railroad, just to the north of Alternative A.

• Metrorail Station Alternative B2: Station Alternative B2 would be located along a short segment of realigned track between the George Washington Memorial Parkway and the CSX Railroad, to the north of Alternative A and to the south of Alternative B1.

• Metrorail Station Alternative B3: Station Alternative B3 would be located along a short segment of realigned track between the George Washington Memorial Parkway and the CSX Railroad, just to the east of Alternative B2.

• Metrorail Station Alternative C1: Station Alternative C1 would be located along realigned Metrorail track between the CSX Railroad and Route 1.

• Metrorail Station Alternative C2: Station Alternative C2 would be located along realigned Metrorail track between the CSX Railroad and Route 1, just east of Alternative C1.

• Metrorail Station Alternative D1: Station Alternative D1 would be located along realigned Metrorail tracks between the CSX Railroad and Route 1, just east of Alternative C2.

• Metrorail Station Alternative D2: Station Alternative D2 would be located along realigned Metrorail tracks between the CSX Railroad and Route 1, just east of Alternative D1.

Possible Effects

FTA will evaluate project-specific as well as indirect and cumulative effects to the existing physical, social, economic, and environmental setting in which the proposed station would be located. The permanent, long-term effects to the region could include, but are not limited to effects to traffic and transportation; land use and socioeconomics; visual character and aesthetics; noise and vibration; historical and archaeological resources; community impacts; natural resources; air quality and climate change; and visual impacts upon the setting of the George Washington Memorial Parkway, a unit of the national park system. Investigation may reveal that the proposed project will not affect or not substantially affect many of these areas. Measures to avoid, minimize, or mitigate any significant adverse impacts will be identified.

FTA Procedures

The regulations implementing NEPA, as well as provisions of the Safe, Accountable, Flexible, Efficient Transportation Equity Act: A Legacy for Users (SAFETEA-LU), call for public involvement in the EIS process for transportation projects. In accordance with Section 6002 of SAFETEA-LU, FTA will: (1) Extend an invitation to other Federal and non-Federal agencies and Native American Tribes that may have an interest in the proposed project to become participating agencies (any interested party that does not receive an invitation to become a participating agency can notify any of the contact persons listed earlier in this NOI); (2) provide an opportunity for involvement by participating agencies and the public to help define the purpose and need for the proposed project, as well as the range of alternatives for consideration in the EIS; and (3) establish a plan for coordinating public and agency participation in, and comment on, the environmental review process. A Public Involvement Plan and an Agency Coordination Plan will be developed outlining public and agency involvement for the project. These will be available on the project Web site, http://www.potomacyardmetro.com, or through written request. Opportunities for comment will be provided throughout the EIS process, including public and agency meetings, the project Web site, a mailing address, and a phone information line. Comments received from any of these sources will be considered in the development of the final scope and content of the environmental documents.

An invitation to become a participating or cooperating agency, with scoping materials appended, will be extended to other Federal and non-Federal agencies and Native American Tribes that may have an interest in the proposed project. It is possible that FTA will not be able to identify all Federal and non-Federal agencies and Native American Tribes that may have such an interest. Any Federal or non-Federal agency or Native American Tribe interested in the proposed project that does not receive an invitation to become a participating agency should notify at the earliest opportunity the Project Manager identified above under ADDRESSES.

Summary/Next Steps

With the publication of this NOI, the scoping process for the project begins. After the publication of the Draft Scoping Document, a public comment period will begin, allowing the public to offer input on the scope of the EIS until March 15, 2011. Public comments will be received through those methods explained earlier in this NOI and will be incorporated into the Annotated Outline. This document will detail the scope of the EIS and the potential environmental effects that will be considered during the study period. After the completion of the Draft EIS, a public hearing and another public commenting period will allow for input on the EIS, and these comments will be incorporated into the Final EIS report before publication.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably at the conclusion of scoping), FTA and its grantees will distribute only the executive summary of the environmental document together with a Compact Disc of the complete environmental document. A complete printed set of the environmental document will be available for review at the grantee's offices and elsewhere; an electronic copy of the complete environmental document will also be available on the project Web site, http://www.potomacyardmetro.com.

Other

The City of Alexandria is pursuing USDOT Discretionary Capital Grant funding for the project. The EIS will be prepared in accordance with NEPA and its implementing regulations issued by the Council on Environmental Quality (40 CFR parts 1500-1508) and with the FTA/Federal Highway Administration regulations “Environmental Impact and Related Procedures” (23 CFR part 771). Related environmental procedures to be addressed during the NEPA process include, but are not limited to, Executive Order 12898 on Environmental Justice; Section 106 of the National Historic Preservation Act; and Section 4(f) of the DOT Act (49 U.S.C. 303).

Issued on: January 20, 2011.
Letitia A. Thompson,
Regional Administrator, Federal Transit Administration Region III, Philadelphia, Pennsylvania.

[FR Doc. 2011-1761 Filed 1-26-11; 8:45 am]

BILLING CODE 4910-57-P